DEPARTMENT OF COMMERCE

National Oceanic and Atmospheric Administration

[RTID 0648-XC909]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Ecosystem Workgroup (EWG) is holding an online meeting, which is open to the public.

DATES: The online meeting will be held Monday, May 15, 2023, from 10 a.m. to 2:30 p.m. and Wednesday, May 17, 2023, from 9 a.m. to 12 p.m.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The EWG presented a proposed workplan for the Fishery Ecosystem Plan Ecosystem and Climate Information Initiative (Initiative 4), which the Council endorsed. Under this initiative, in the near term the EWG will develop risk tables and related methodologies to integrate ecosystem and climate information into Council decision-making on harvest specifications for petrale sole and possibly other species. In addition to petrale sole, the Council also asked the EWG to consider development of related methodologies for sablefish, Pacific sardine, and Chinook salmon. The EWG will present draft risk tables and related methodologies to the Council at its September meeting. Risk tables are a structured approach to integrate ecosystem and climate information into the decision-making process. At its meeting the EWG will begin developing risk tables and related methodologies for selected species in consultation with members of the Council's Groundfish Management Team. The EWG also may discuss and begin planning potential initiative-related activities following the September Council meeting.

Although non-emergency issues not contained in the meeting agenda may be discussed, those issues may not be the subject of formal action during this meeting. Action will be restricted to those issues specifically listed in this

document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 24, 2023.
Rey Israel Marquez,
Acting Deputy Director, Office of Sustainable Fisheries, National Marine Fisheries Service.

[FR Doc. 2023-08972 Filed 4-27-23; 8:45 am]

BILLING CODE 3510-22-P